FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than September 18, 2016.

A. Federal Reserve Bank of Atlanta (Chapelle Davis, Assistant Vice President) 1000 Peachtree Street NE., Atlanta, Georgia 30309. Comments can also be sent electronically to Applications.Comments@atl.frb.org:

1. Sunshine Bancorp, Inc., Plant City, Florida (“Sunshine”); to become a savings and loan holding company. Sunshine currently is a savings and loan holding company; Sunshine proposes to become a bank holding company for a moment in time by merging with FNB Bancorp Inc., Orlando, Florida and acquire its subsidiary bank, Florida Bank of Commerce, Orlando Florida, (“FB Bank”). Sunshine also has applied to retain its savings association, Sunshine Bank, Plant City, Florida. After the acquisition, Sunshine proposes to merge FB Bank with Sunshine Bank, with Sunshine Bank as the surviving entity, and become a savings and loan holding company.

Board of Governors of the Federal Reserve System, August 18, 2016.
Margaret M. Shanks,
Deputy Secretary of the Board.

[FR Doc. 2016-20202 Filed 8-23-16; 8:45 am]

BILLING CODE 6210-01-P